DEPARTMENT OF LABOR

Mine Safety and Health Administration

30 CFR Parts 70, 71, 72, 75, and 90

[Docket No. MSHA-2018-0014]

RIN 1219-AB90

Retrospective Study of Respirable Coal Mine Dust Rule

AGENCY: Mine Safety and Health Administration, Labor.

ACTION: Request for Information; extension of comment period.

SUMMARY: The Mine Safety and Health Administration (MSHA) is extending the comment period on the Request for Information on a Retrospective Study of Respirable Coal Mine Dust Rule. The comment period is extended until July 9, 2022. Pursuant to MSHA's ongoing study, this extension gives stakeholders additional time to provide input on developing the framework to assess the impact of the final rule, Lowering Miners' Exposure to Respirable Coal Mine Dust, Including Continuous Personal Dust Monitors and to provide MSHA information and data on engineering controls and best practices that lower miners' exposure to respirable coal mine dust.

DATES: The comment period for the request for information, published on July 9, 2018 (83 FR 31710), which was scheduled to close on July 9, 2019, is extended until July 9, 2022. Comments must be received or postmarked by midnight Eastern Daylight Savings time on July 9, 2022.

ADDRESSES: Submit comments and informational materials, identified by RIN 1219-AB90 or Docket No. MSHA-2018-0014, by one of the following methods:

• Federal E-Rulemaking Portal: http://www.regulations.gov. Follow the instructions for submitting comments.

• Email: zzMSHA-comments@dol.gov. Include RIN 1219-AB90 or Docket No. MSHA-2018-0014 in the subject line of the message.

• Mail: MSHA, Office of Standards, Regulations, and Variances, 201 12th Street S, Suite 4E401, Arlington, Virginia 22202-5452.

• Fax: 202-693-9441.

• Hand Delivery or Courier: MSHA, 201 12th Street S, Suite 4E401, Arlington, Virginia, between 9:00 a.m. and 5:00 p.m. Monday through Friday, except Federal holidays. Sign in at the receptionist's desk on the 4th floor.

Instructions: All submissions must include RIN 1219-AB90 or Docket No. MSHA-2018-0014. Do not include personal information that you do not want publicly disclosed; MSHA will post all comments without change to http://www.regulations.gov and http://www.msha.gov/currentcomments.asp, including any personal information provided.

Docket: For access to the docket to read comments received, go to http://www.regulations.gov or http://www.msha.gov/currentcomments.asp. To read background documents, go to http://www.regulations.gov. Review the docket in person at MSHA, Office of Standards, Regulations, and Variances, 201 12th Street South, Suite 4E401, Arlington, Virginia 22202-5452, between 9:00 a.m. and 5:00 p.m. Monday through Friday, except Federal Holidays. Sign in at the receptionist's desk on the 4th floor.

Email Notification: To subscribe to receive an email notification when MSHA publishes rules in the Federal Register, and program information, instructions, and policy, go to http://www.msha.gov/subscriptions/subscribe.aspx.

FOR FURTHER INFORMATION CONTACT: Sheila A. McConnell, Director, Office of Standards, Regulations, and Variances, MSHA, at mcconnell.sheila.a@dol.gov (email); 202-693-9440 (voice); or 202-693-9441 (fax).

SUPPLEMENTARY INFORMATION: On May 1, 2014, MSHA published a final rule, “Lowering Miners' Exposure to Respirable Coal Mine Dust, Including Continuous Personal Dust Monitors” (79 FR 24814) (Dust rule). The purpose of the Dust rule is to reduce occupational lung diseases in coal miners. As MSHA noted in the preamble to the Dust rule, the health effects from occupational exposure to respirable coal mine dust consist of interstitial and obstructive pulmonary diseases (79 FR 24819) that can lead to permanent disability and death.

Interstitial lung diseases, like coal workers' pneumoconiosis (CWP) and silicosis, may have a significant latency period between exposure and disease. The health effects from exposure to respirable coal mine dust may not be realized for 10 or more years until the disease becomes clinically apparent. In addition, the chronic effects of interstitial lung diseases, such as CWP and silicosis, may progress or worsen even after miners are no longer exposed to respirable coal mine dust. Thus, miners' exposure to respirable coal mine dust before final implementation of the Dust rule on August 1, 2016, may continue to contribute to the development of lung diseases in coal miners. New miners hired after August 1, 2016, are the only cohort of coal miners who are unaffected by exposures that occurred before full implementation of the Dust rule.

In the preamble to the Dust rule, MSHA stated its intent to take the lead in conducting a retrospective study beginning February 1, 2017 (79 FR 24867), with an unspecified completion date. Since the Dust rule, went into effect, MSHA has studied more than 250,000 respirable dust samples taken by mine operators who use the CPDM and by MSHA inspectors who use the gravimetric sampler. MSHA's analysis shows that more than 99 percent of the samples were in compliance with MSHA's respirable coal mine dust standards. The sample data allows MSHA to evaluate the effectiveness of dust controls in mines and whether the rule results in reduced levels of respirable coal dust. This data is available on MSHA's website and is updated on a periodic basis.

MSHA continues to evaluate respirable dust controls and best practices for compliance with the rule's requirements. MSHA also meets with mine operators and miners to provide mine-specific compliance and technical assistance and continues to consult with the Department of Health and Human Services' National Institute for Occupational Safety and Health (NIOSH).

On July 9, 2018 (83 FR 31710), MSHA published a “Request for Information on a Retrospective Study of Respirable Coal Mine Dust Rule” (RFI). The comment period is scheduled to close on July 9, 2019. The Agency has determined that extending the comment period until July 9, 2022, will give interested parties more time to provide ongoing input on developing the framework for a study to assess the impact of the Dust rule. Furthermore, due to the significant latency period between exposure to respirable coal mine dust and when occupational lung disease becomes clinically apparent, MSHA anticipates a long-term, ongoing need for comments on this issue so that it always has the most current information.

The Agency will continue to make comments received public, including comments on engineering controls and best practices that lower miners' exposure to respirable coal mine dust by publishing the comments as they are received on the Agency's website and at www.regulations.gov.

David G. Zatezalo,
Assistant Secretary of Labor for Mine Safety and Health.

[FR Doc. 2019-14271 Filed 6-28-19; 4:15 pm]

BILLING CODE 4510-43-P